CENSUS MONITORING BOARD

Sunshine Act Meeting

Announcement Date: August 29, 2000.

AGENCY: U.S. Census Monitoring Board.

ACTION: Notice of Public Meeting.

SUMMARY: This notice, in compliance with P.L. 105-119, sets forth the meeting date, time, and location for a public meeting of the U.S. Census Monitoring Board in Atlanta, Georgia. The agenda is to hear from community based groups regarding the operations of the census within the area. Additionally, the Board will have a general business meeting.

DATE: September 11, 2000.

TIME: 9 a.m. to 11:30 a.m.

LOCATION: Assembly Room II, Georgia Capitol Education Center, 180 Central Avenue, Atlanta, Georgia 30303.

FOR FURTHER INFORMATION CONTACT: Contact Clark Reid, 301-457-5080, Deputy Executive Director (Congressional Members) or Robert Cunningham, 301-457-9900, Deputy Executive Director (Presidential Members.)

Fred T. Asbell,
Executive Director, Congressional Members.
Mark Johnson,
Executive Director, Presidential Members.

[FR Doc. 00-22487 Filed 8-29-00; 8:45 am]

BILLING CODE 3510-07-M